DEPARTMENT OF COMMERCE

National Oceanic and Atmospheric Administration (NOAA).

[Docket No. 980723189-2026-02; I.D. 041902B]

Financial Assistance for a National Ocean Service Intern Program

AGENCY: National Ocean Service (NOS), National Oceanic and Atmospheric Administration (NOAA), Commerce.

ACTION: Notice.

SUMMARY: The National Ocean Service announces the availability of Federal Assistance to operate an intern program. The need for wise stewardship of the coastal environment is increasing and with it a need to enlarge the pool of skilled environmental scientists and managers and at the same time increase the diversity of this pool. The National Ocean Service (NOS) recognizes that there is a shortage of skilled environmental scientists and managers who are aware of and utilize the techniques and technologies required by NOAA's stewardship programs and is trying to remedy the situation through an Intern program. The programmatic objective of this intern program is to provide unique opportunities for cooperative study, research, and development that would be of major benefit in advancing the number and diversity of skilled engineers, scientists, and managers in the environmental arena who are familiar with the techniques and technologies used by NOS. This solicitation is to find a partner to assist NOAA in cooperatively managing this intern program. This partner would be responsible for locating candidate Interns, assisting in their selection, and administering of the awards to the Interns. NOAA would identify the intern opportunities, assist in the final selection of the candidate interns, and provide space, technical guidance and training to the Interns during their period of internship at government facilities. This program will start in FY02 using initial funding from FY02. It is anticipated that additional funds will be used to expand the program to increase the number of interns for the initial award. Periodically, additional funds will be added to fund additional groups of interns.

DATES: Applications must be received no later than 5 p.m., Eastern Standard Time, May 28, 2002.

ADDRESSES: Applications must be mailed to: NOS Special Projects, Attn: NOS Intern Program, 1305 East-West Highway Room 09-449, Silver Spring, MD 20910.

FOR FURTHER INFORMATION CONTACT: Dr. Peter L. Grose, NOAA—N/SP, 1305 East West Highway Room 09-449, Silver Spring, MD 20910 (301) 713-3000 x132

SUPPLEMENTARY INFORMATION:

Background

The National Oceanic and Atmospheric Administration (NOAA), National Ocean Service (NOS) is expanding its institutional commitment to Coastal Stewardship. NOS also desires to continue its science and technology leadership with respect to addressing coastal environments and issues. NOS has identified several areas of interest that will be pursued in environmental management, research and development in the coastal zone, and mensuration of the environment which are necessary to support active stewardship. These areas include, but are not limited, to:

integrated coastal zone management, resource protection and restoration, remote sensing of coastal and benthic habitats, shallow water and coastal mapping, geodesy, marine navigation, delineation of essential habitats, determination of environmental degradation and damage, habitat remediation, and applied research and development on environmental, economic, and demographic issues.

A primary objective of NOS is to plan and support active Stewardship of coastal and marine resources at a time of increased pressures on these resources and decreasing funds for programs. NOS does not have the staff nor resources to accomplish this objective in a closed bureaucracy. Thus, part of the strategy is to transfer NOS's technologies, techniques, and methods to the community-at-large, especially the next generation of resource scientists and managers both to increase their capability and to increase their diversity. Many of NOS's programs and activities are unique and need to be transferred to the non-Federal community. An effective mechanism to affect this transfer is through the establishment of an Internship Program. This cooperative agreement between NOAA and the recipient will promote these objectives and establish the means to accomplish them in a manner beneficial to both NOAA and the recipient.

Authority: Statutory authority for these awards is provided under 15 U.S.C. 1540.

(Catalog of Federal Domestic Assistance (CFDA): This NOS Intern Program is listed in the Catalog of Federal Domestic Assistance under Number 11.480.)

Program Description

The proposed cooperative program will be administered by the Recipient in response to intern opportunities offered by NOAA.

The recipient shall provide environmental Interns (Associates) to work on individual projects in response to internship opportunities established by the program offices within NOS. The Associates provided must be college students or recent graduates (Bachelors, Masters, Ph.D., JD), with a college degree in areas such as environmental science, earth science, environmental engineering, geodesy, chemistry, physics, oceanography, biology, fishery science, geography, resource economics, risk assessment, policy analysis, computer science, and law. Candidate associates must be U.S. citizens. There is not a fixed number of Internships per year under this program. The actual number will depend on opportunities and funding identified by offices within NOS. The minimum number will be one, the maximum may exceed 40.

Internships shall be located at Silver Spring, MD, Seattle, WA, and other NOS facilities as designated and Associates shall be required to relocate (if necessary) to such locations for the duration of the internship. Some funds for relocation expenses may be available for selected internships. Associates will be provided individual assignments for each period of internship and on an as needed basis (per project). These projects shall be designed to provide learning experiences for the Associates that will make them competitive for employment opportunities in both the public and private sector and to transfer unique and specialized technologies or procedures from NOAA to the Public and Private sectors.

Under this Cooperative Agreement, the Recipient shall make an effort in advertising and promoting these internships to Native Americans, Hispanic, African, Asian and other minorities at many educational levels.

Associates will work full time for a period of approximately three to twelve months. The actual duration will vary based on the specific objectives of each internship opportunity as determined by the Project Officer and Technical Advisor. Internships can be renewed, but shall not exceed 24 months for any individual Associate as either a single or multiple internships.

Final details for individual assignments shall be developed in consultation with the Project Officer or the individual Technical Advisor in accordance with the “Statement of Substantial Involvement between NOAA and the Recipient”. In accordance with the substantial involvement clause, the Project Officer and the Technical Advisor shall be responsible for providing guidance on the specific tasks required for the satisfactory completion of the internship by the Associate. As part of the Internship, each Associate shall develop and carry out an individual research project that furthers the objectives of the program to which he or she is assigned. These projects shall be developed under the direction of the Project Officer or Technical Advisor.

Description of the Intended Operation of the Intern Program for Each Internship

1. The technical advisor shall document the intern opportunity and include the following information:

(a) Name of the office offering the opportunity/Project.

(b) Name of the contact person in this office—(technical advisor), address, telephone & email address.

(c) Background of the Project—description of the project/program within which the internship is offered.

(d) Objectives of the Project relative to the Intern.

(e) Description of what the intern will do (duties).

(f) Description of the benefits to the intern from the internship (what training will occur, be offered, etc.).

(g) Minimum qualifications for the internship (major, courses, degree).

(h) Desired background of the Intern and special skills (e.g. diving certification) required, if any.

(i) Special conditions/requirements (overtime, sea duty, travel, etc.). [Funds to cover any additional costs incurred by these conditions must be included in the obligation.]

(j) Desired starting date and duration of the opportunity.

(k) Stipend level (and relocation expense if available).

2. This description, along with an obligation of required funds (Stipend + benefits + travel + overhead + fees) in the form of a completed CD-435, will be transmitted to the Project Officer.

3. The Project Officer shall review the documentation of the intern opportunity, and, if acceptable, shall implement an increment to the master grant and transmit the description of the Intern opportunity to the Recipient.

4. Recipient shall advertise the available Intern position, and from those expressing an interest, pre-select a pool of 5-10 candidates based on the requirements of the internship, and submit this candidate list along with resumes of the candidates to the Project Officer and Technical Advisor. This submittal shall occur within 30 calendar days of receipt of the request and documentation from the Grantor.

5. Within 14 days of receipt of the pool of candidates, the Technical Advisor shall notify the Project Officer of his/her ranking of the acceptable candidates. The Project Officer shall review the ranking, approve, and forward it to the Recipient. If no candidates are acceptable, the Recipient shall be requested to re-advertise the opportunity.

6. Upon selection of a candidate, the Recipient shall make arrangements with the selected candidate for employment and, in consultation with the Grantor, set a reporting date for the associate.

7. The Associate shall carry out the Internship.

Definitions

Associate—Individual who will be provided with and perform internships under this cooperative agreement.

Intern Opportunity/Project—An opportunity for an internship which is documented and has funds obligated for its costs. In general, these opportunities will be assignments within existing NOS programs and ongoing projects and not something created uniquely for this Agreement.

Project Officer—The NOAA Project Officer is that individual specifically named by NOAA to manage this program.

Technical Advisor/Monitor—The NOAA employee responsible for providing day-to-day guidance on the specific project(s) assigned to the associate and for the associate's individual development and progress.

Anticipated Stipend Levels (per annum) and General Background Requirements of Internships:

1. $25,000 ($12.02/hr) 2 full years of academic study.

2. $28,000 ($3.46/hr) 4 full years of academic study (BA, BS degree).

3. $32,000 ($15.38/hr) 4 years and superior academic standard (top 1/3, 2.9/4 GPA overall, & 3.5/4 GPA in Major.

4. $37,000 ($17.79/hr) 60 hrs Graduate level or Masters degree.

5. $42,000 ($20.19/hr) All requirements for PhD met.

Unless included in the Intern opportunity description, overtime is not anticipated. In the event that overtime is required, the duration of the internship shall be reduced or additional funds shall be obligated or Compensatory time shall be given in lieu of overtime to pay for it.

In the event that an Associate terminates or is terminated (for cause), the Recipient shall make every opportunity to refill the internship and, if not practicable, credit the Grantor with the unspent balance of the funds. These funds shall be used to supplement internships under the direction of the Project Officer. Note: If the Associate is to be an “independent contractor” rather than an employee of the Recipient under the Cooperative Agreement, the stipend levels paid to the intern shall be increased by 8% to cover the additional required Self Employment fees.

Funding Availability

NOS funding for this Program will be a minimum of $40,000 from FY02 funds to a maximum of $1,800,000 during the first year. Additional follow-on years (starting from the anniversary of the first awarded cooperative agreement), up to a maximum of 4 without re-competition, may be funded to a maximum of $1,800,000 per year. Each internship or group of internships, beyond the first, shall be funded as an amendment to the master agreement. There is no set timetable for announcement of internships and they may occur throughout the year.

Matching Requirements

Cost sharing is not required for the internship program.

Type of Funding Instrument

The NOS Intern Program shall be awarded as a Cooperative Agreement since NOAA anticipates that there will be substantial involvement between NOS, the Recipient, and the Interns (after their selection).

Statement of Substantial Involvement Between NOAA and the Recipient

In carrying out the work program set forth in the project description, NOS and the Recipient agree to meet the programmatic objective of this agreement as stated.* NOS involvement will consist of the following activities.

* Summary Section: “The programmatic objective of this intern program is to provide unique opportunities for cooperative study, research, and development that would be of major benefit in advancing the number and diversity of skilled engineers, scientists, and managers in the environmental arena who are familiar with the techniques and technologies used by NOS.”

1. NOS will provide descriptions of available intern opportunities with required academic backgrounds and job skills.

2. NOS will participate in review and rating panels and will interview and make final selections from lists of eligible candidates that are provided by the Recipient.

3. NOS will provide a technical monitor to interact with each Associate who will be chosen to work on a given project. The technical monitor shall provide technical guidance and support to the Associate in developing the skills necessary to perform the work in the chosen environmental arena.

Eligibility Criteria

This solicitation is open to any Non-Profit organization.

Award Period

The initial competitive award shall be valid for a period of one (1) year. Additional awards can be made without re-competition for up to 4 continuation years (starting from the anniversary of the first awarded cooperative agreement) with the mutual consent of both parties. NOAA shall consider continued funding for the project upon: (a) satisfactory progress toward the stated agreement goals, and the determination by NOAA that the continuation of the program would be in the best interest of the Government; and (b) availability of funds. This submission in no way obligates NOAA to extend this agreement, nor is this paragraph to be interpreted as a promise that future funds will be available.

Indirect Costs

Funds to support the NOS Intern program shall be given directly to the Recipient. Administrative or indirect costs shall be negotiated as part of the Master Agreement award and shall be based on and paid on a per internship basis. These costs may be fixed time dependent, Intern Stipend dependent, or a combination as proposed by the Recipient.

Stipend levels, and benefits may be adjusted for COLA for each continuation year.

Application Requirements

Applicants must submit one signed original plus two (2) copies of the application including all information required by the application kit. Each application package shall contain:

1. SF-424 (including SF-424A & SF-424B).

2. A budget with necessary supporting details. This budget should be based on a hypothetical intern opportunity at a stipend level of $28,000 per year if the intern is to be an employee of the Recipient or $32,240 if the Intern is to an Independent Contractor, an allowance for required field trip travel of $2,000, and a relocation allowance of $500. Because it is anticipated that this agreement will be extended to include additional internships beyond the first, supporting information should be included to determine the full cost to the government of additional internships which may have any of the suggested stipend levels, have durations ranging 3 to 12 months, and be with or without relocation or travel allowances. This information should also contain details on what services and benefits are included (i.e. sick leave, tax withholding, insurance, etc.) and their estimated cost to interns; as well as, what, if any, allowances are made for vacation leave and/or sick leave. Holidays observed by the office hosting the intern will be considered paid holidays.

3. Curriculum Vitae for each Principle Investigator and critical senior staff assigned to the program.

4. Copy of a current approved Negotiated Indirect Cost Rate Agreement.

5. CD-511 “Certifications Regarding * * *”.

6. SF-LLL “Disclosure of Lobbying” (blocks 1-10 & 16).

7. Statement of Work (narrative description of the proposed activity, objectives and milestones). This Settlement of Work shall include:

(a) A description of the Intern Program, how they would implement it and conduct its operation. Alternatives and variations with regard to the timing of items 4 and 5 within the “Description of the Intended Operation of the Intern Program for each Internship” detailed above may be proposed.

(b) Proposed method of advertising for and pre-screening candidate Interns.

(c) Proposed relationship between the prospective Recipient and Selected Interns, with descriptions of services offered (e.g. tax withholding) and benefits available (e.g. health insurance, workman's compensation, etc.) to the Interns.

(d) Past history of the prospective Recipient in operating similar programs.

8. Proof of Status For First Time Eligible Non-Profit Applicants.

Application Forms and Kit

An application kit containing all required application forms and certifications is available from the NOAA Grants Management Division (301) 713-0946.

Project Funding Priorities

Responsiveness of the application to the programmatic objectives of the Intern program as noted in the Background section and restated in the Type of Funding Instrument section above.

Evaluation Criteria

The proposals from prospective Recipients will be evaluated on the submitted application to conduct the proposed Intern Program.

The evaluation shall be weighted as indicated:

1. Costs for operating the proposed Intern Program. (15%)

2. Description of the program, how they would implement it, conduct its operation and proposed time lines for filling internships. (25%)

3. Proposed relationship between the prospective Recipient and Selected Interns, with descriptions of services offered and benefits available to the Interns relative to their cost to the Grantor, Recipient, and Intern. (15%)

4. Proposed method for advertising for and pre-screening candidate Interns. (20%)

5. Past history of the prospective Recipient in operating similar programs and qualifications of proposed senior staff. (25%)

Selection Procedure

Each application will receive an independent, objective review by a panel qualified to evaluate the applications submitted. The Independent Review Panel, consisting of at least three individuals, will review, evaluate, and rank all applications based on the criteria stated above. The final decision on award will be based upon the numerical ranking and a determination by the Selecting Official that the Recipient's application meets the Project Funding Priorities.

Unsuccessful applications will be destroyed when they are no longer required for the selection process.

Other Requirements

Restrictions

Interns will not be used to replace NOAA employees formerly employed under the Office of Personnel Management students appointing authorities, to replace temporary or term appointments, or to replace or fill-in for full or part-time NOAA positions vacated by the Voluntary Separation Program or Reduction in Force. Participants will not be selected or used to perform personal services. Nothing shall create the appearance that the participant is being used in a personal services manner. The relationship between the Recipient and Interns is up to the Recipient. The Recipient may be the Intern's employer or it may choose to award the Interns stipends or grants. In any case, the Recipient is responsible for payment, discipline, leave approval, termination, etc. for each Intern. Nothing in this agreement or its supplements shall be deemed to create an employer-employee relationship between the NOAA and an Intern. Former NOAA employees (including students) are not eligible for this program within two years of employment at NOAA.

Pre-Award Notification Requirements

The Department of Commerce Pre-Award Requirements for Grants and Cooperative Agreements contained in the Federal Register notice of October 1, 2001 (66 FR 49917), are applicable to this solicitation.

Classification

It has been determined that this notice is not significant for purposes of E.O. 12866.

Applications under this program are not subject to executive Order 12372, “Intergovernmental Review of Federal Programs.''

It has been determined that this notice does not contain policies with Federalism implications as that term is defined in EO 13132.

Because notice and comment are not required under 5 U.S.C. 553, or any other law, for notices relating to public property, loans, grants, benefits or contracts, a Regulatory Flexibility Analysis, 5 U.S.C. 601 et seq., is not required and has been prepared for this notice.

This document contains collection-of-information requirements subject to the Paperwork Reduction Act (PRA). The use of Standard Forms 424, 424A, 424B, and SF-LLL have been approved by OMB under the respective control numbers 0348-0043, 0348-0044, 0348-0040, and 0348-0046.

Notwithstanding any other provision of law, no person is required to respond to, nor shall any person be subject to a penalty for failure to comply with a collection of information subject to the Paperwork Reduction Act unless that collection displays a currently valid OMB Control Number.

Dated: April 17, 2002.
Jamison S. Hawkins,
Deputy Assistant Administrator for Ocean Services and Coastal Zone Management.

[FR Doc. 02-10208 Filed 4-24-02; 8:45 am]

BILLING CODE 3510-ST-M